ELECTION ASSISTANCE COMMISSION

Sunshine Act Notice

AGENCY: United States Election Assistance Commission.

ACTION: Notice of public meeting.

Date and Time: Tuesday, November 13, 2007, 10 a.m.-1 p.m.

Place: U.S. Election Assistance Commission, 1225 New York Ave., NW., Suite 150, Washington, DC 20005.

Agenda: Commissioners will discuss and consider adopting a strategic plan; Commissioners may consider an internal policy for handling State requests to change State-specific instructions to the National Voter Registration Form; Commissioners will consider individual State requests to change State-specific instructions to the form; Commissioners will receive the following presentations: A report on a voter registration data base study; an update on recommendations by the Technical Guidelines Development Committee (TGDC) for voting systems guidelines and timeline leading to adoption of a final version; a report on a draft voting systems test laboratory accreditation manual; Commissioners will discuss other administrative matters.

This meeting will be open to the public.

Person to Contact for Information: Bryan Whitener, Telephone: (202) 566-3100.

Thomas R. Wilkey,
Executive Director, U.S. Election Assistance Commission.

[FR Doc. 07-5448 Filed 10-30-07; 9:30 am]

BILLING CODE 6820-KF-M